COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and service to the Procurement List that will be furnished by nonprofit agencies employing persons who are blind or have other severe disabilities.

DATES: Effective on May 14, 2017.

ADDRESSES: Committee for Purchase From People Who Are Blind or Severely Disabled, 1401 S. Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Additions

On 1/13/2017 (82 FR 4315-4316), 1/23/2017 (82 FR 7802), 2/3/2017 (82 FR 9203-9204) and 2/10/2017 (82 FR 10337-10338), the Committee for Purchase From People Who Are Blind or Severely Disabled published notice of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

MR 1172—Sweeper Set, Wet and Dry

MR 1173—Refill, Sweeper Set, Dry Cloths, 16 Count

MR 1174—Refill, Sweeper Set, Dry Cloths, 30 Count

MR 1175—Refill, Sweeper Set, Wet Cloths, 24 Count

Mandatory for: The requirements of military commissaries and exchanges in accordance with the Code of Federal Regulations, 41 CFR 51-6.4

Mandatory Source(s) of Supply: LC Industries, Inc., Durham, NC

Contracting Activity: Defense Commissary Agency, Fort Lee, VA

Distribution: C-List

NSN(s)—Product Name(s):

3920-00-NIB-0001—Hand Truck, 48″ H x 22″ W, 8″ Solid Rubber Wheels

3920-00-NIB-0002—Hand Truck, 45″ H x 18″ W, 10″ Solid Rubber Wheels

3920-00-NIB-0003—Hand Truck, Economy, 40″ H x 18″ W, 8″ Zero-Pressure Rubber Tires

3920-00-NIB-0004—Hand Truck, Double Handle, 48″ H x 22″ W, 10″ Pneumatic Tires

3920-00-NIB-0005—Hand Truck, Convertible, 48″ H x 22″ W, 10″ Pneumatic Tires with Wheel Guards

Mandatory for: Total Government Requirement

Mandatory Source(s) of Supply: Envision Industries Inc., Wichita, KS

Contracting Activity: Defense Logistics Agency Troop Support

Distribution: B-List

NSN(s)—Product Name(s):

8920-00-SAM-0169—Super Cereal Plus

Mandatory for: 30% (total) of the requirement of the U.S. Agency for International Development's World Food Program, as aggregated by the USDA Farm Service Agency, IPD Packaged, Kansas City, MO

Mandatory Source(s) of Supply: Transylvania Vocational Services, Inc., Brevard, NC

Contracting Activity: Farm Service Agency, IPD Packaged, Kansas City, MO

Distribution: C-List

Service

Service Type: Custodial Service

Mandatory for: Consumer Financial Protection Bureau, CFPB Headquarters Building, 1700 G Street and 1990 K Street (Floors 7, 8, 9 pantries only), Washington, DC.

Mandatory Source(s) of Supply: Didlake, Inc., Manassas, VA

Contracting Activity: Consumer Financial Protection Bureau

Patricia Briscoe,
Deputy Director, Business Operations (Pricing and Information Management).

[FR Doc. 2017-07575 Filed 4-13-17; 8:45 am]

BILLING CODE 6353-01-P